DEPARTMENT OF COMMERCE

International Trade Administration

[A-549-502)]

Circular Welded Carbon Steel Pipes and Tubes From Thailand: Extension of Time Limit for Final Results of Antidumping Duty Administrative Review

AGENCY: Import Administration, International Trade Administration, Department of Commerce.

DATES: Effective Date: May 21, 2010.

FOR FURTHER INFORMATION CONTACT: Jacqueline Arrowsmith, AD/CVD Operations, Office 6, Import Administration, International Trade Administration, U.S. Department of Commerce, 14th Street and Constitution Avenue, NW., Washington DC 20230; telephone: (202) 482-5255.

SUPPLEMENTARY INFORMATION:

Background

On April 13, 2010, the Department of Commerce (the Department) published the preliminary results of the administrative review of the antidumping duty order on circular welded carbon steel pipes and tubes from Thailand. See Circular Welded Carbon Steel Pipes and Tubes from Thailand: Preliminary Results and Rescission, in Part, of Antidumping Duty Administrative Review, 75 FR 18788 (April 13, 2010) (Preliminary Results). This administrative review covers the period March 1, 2008 through February 28, 2009. This review covers one producer/exporter of the subject merchandise to the United States, Saha Thai Steel Pipe (Public) Company, Ltd.

Extension of Time Limit for Final Results

Pursuant to section 751(a)(3)(A) of the Tariff Act of 1930, as amended (the Act), and 19 CFR 351.213(h)(1), the Department shall issue final results in an administrative review of an antidumping duty order within 120 days after the date on which notice of the preliminary results is published in the Federal Register. However, if the Department determines that it is not practicable to complete the review within the time limits, section 751(a)(3)(A) of the Act and 19 CFR 351.213(h)(2) allow the Department to extend the 120-day period up to a 180-day period.

Pursuant to section 751(a)(3)(A) of the Act and 19 CFR 351.213(h)(2), we determine that it is not practicable to complete the results of this review within the original time limit. The Department requested comments from interested parties on the effect, if any, of the application of the quarterly cost methodology on the Department's level of trade analysis. In particular, the Department requested that parties comment on whether the quarterly cost approach requires an evaluation on a quarterly basis of the pattern of price differences and how any such differences should be analyzed for purposes of determining whether a level of trade adjustment is warranted. Consequently, the Department needs additional time to consider comments that were filed by the parties and to develop an appropriate analytical approach.

In accordance with section 751(a)(3)(A) of the Act and 19 CFR 351.213(h)(2), the Department has decided to extend the time limit for the final results from 120 days to 180 days, making the new due date for the final results, October 10, 2010. However, October 10, 2010 falls on a Sunday, and Monday, October 11, 2010 is a federal holiday. It is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for the completion of the final results is now October 12, 2010, the first business day following the 180-day period.

This notice is issued and published in accordance with sections 751(a)(3)(A) and 777(i)(1) of the Act.

Dated: May 14, 2010.
John M. Andersen,
Acting Deputy Assistant Secretary for Antidumping and Countervailing Duty Operations.

[FR Doc. 2010-12305 Filed 5-20-10; 8:45 am]

BILLING CODE 3510-DS-P